DEPARTMENT OF TRANSPORTATION

Federal Motor Carrier Safety Administration

[Docket No. FMCSA-2018-0120]

Agency Information Collection Activities; Revision of an Information Collection Request: Financial Responsibility, Trucking and Freight Forwarding

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The ICR is related to Form BMC-32 titled, “Endorsement for Household Goods Motor Carrier Polices of Insurance for Cargo Liability Under 49 U.S.C. 13906.”

DATES: Please send your comments by October 15, 2018. OMB must receive your comments by this date in order to act quickly on the ICR.

ADDRESSES: All comments should reference Federal Docket Management System (FDMS) Docket Number FMCSA-2018-0120. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Jeffrey Secrist, Division Chief, Office of Registration and Safety Information, Department of Transportation, Federal Motor Carrier Safety Administration, 6th Floor, West Building, 1200 New Jersey Avenue SE, Washington, DC 20590-0001. Telephone: 202-385-2367; Email Address: jeff.secrist@dot.gov. Office hours are from 9 a.m. to 5 p.m., Monday through Friday, except Federal Holidays.

SUPPLEMENTARY INFORMATION:

Title: Financial Responsibility, Trucking and Freight Forwarding.

OMB Control Number: 2126-0017.

Type of Request: Revision of an approved information collection.

Respondents: Household goods carriers and household goods freight forwarders.

Estimated Number of Respondents: 366,086 respondents. (4,773 for the BMC-32 form + 361,313 respondents for currently approved ICR for the BMC-34, BMC-35, BMC-36, BMC-40, BMC-82, BMC-83, BMC-84, BMC-85, BMC-91, and BMC-91X forms).

Estimated Time per Response: 10 minutes for the BMC-32 form and 10 minutes for the BMC-34, BMC-35, BMC-36, BMC-82, BMC-83, BMC-84, BMC-85, BMC-91, and BMC-91X forms. 40 hours for the BMC-40 form.

Expiration Date: May 31, 2020.

Frequency of Response: On occasion.

Estimated Total Annual Burden: 62,483 hours (796 hours [4,773 respondents × 10 minutes per response] for the BMC-32 form + 61,687 hours for currently approved ICR for the BMC-34, BMC-35, BMC-36, BMC-40, BMC-82, BMC-83, BMC-84, BMC-85, BMC-91, and BMC-91X forms).

Background: The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA. The registration remains valid only if these transportation entities maintain, on file with the FMCSA, evidence of the required levels of financial responsibility pursuant to 49 U.S.C. 13906. FMCSA regulations governing the financial responsibility requirements for these entities are found at 49 CFR part 387. Form BMC-32 is an endorsement that must be attached to cargo insurance policies, but it is not filed with the FMCSA. The Agency is seeking approval for use of Form BMC-32 titled, “Endorsement for Household Goods Motor Carrier Polices of Insurance for Cargo Liability Under 49 U.S.C. 13906.” Previously, Form BMC-32 was included as part of the BMC collection of forms approved under the “Financial Responsibility, Trucking and Freight Forwarding” ICR, OMB Control Number 2126-0017. However, the last OMB Notice of Action providing approval of the BMC-32 form under this ICR was on February 23, 2006, with an expiration date of February 28, 2009. The ICR was renewed by OMB on May 19, 2017, without including the BMC-32 form, therefore FMCSA is now seeking approval of the BMC-32 form, to add the form to the ICR which is now approved by OMB until May 31, 2020, for use of the BMC-32 form, along with the approved use of the BMC-34, BMC-35, BMC-36, BMC-40, BMC-82, BMC-83, BMC-84, BMC-85, BMC-91, and BMC-91X forms.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: September 5, 2018.
G. Kelly Regal,
Associate Administrator for Office of Research and Information Technology.

[FR Doc. 2018-20021 Filed 9-13-18; 8:45 am]

BILLING CODE 4910-EX-P